DEPARTMENT OF TRANSPORTATION

Federal Motor Carrier Safety Administration

[Docket No. FMCSA-2016-0217]

Qualification of Drivers; Exemption Applications; Diabetes

AGENCY: Federal Motor Carrier Safety Administration (FMCSA), DOT.

ACTION: Notice of denials.

SUMMARY: FMCSA announces its denial of 88 applications from individuals who requested an exemption from the Federal diabetes standard applicable to interstate truck and bus drivers and the reasons for the denials. FMCSA has statutory authority to exempt individuals from the diabetes requirement if the exemptions granted will not compromise safety. The Agency has concluded that granting these exemptions does not provide a level of safety that will be equivalent to, or greater than, the level of safety maintained without the exemptions for these commercial motor vehicle (CMV) drivers.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays.

SUPPLEMENTARY INFORMATION:

Background

Under 49 U.S.C. 31136(e) and 31315, FMCSA may grant an exemption from the Federal diabetes standard for a renewable 2-year period if it finds “such an exemption would likely achieve a level of safety that is equivalent to, or greater than, the level that would be achieved absent such an exemption.” The procedures for requesting an exemption are set forth in 49 CFR part 381.

Accordingly, FMCSA evaluated 88 individual exemption requests on their merits and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 8 applicants met the diabetes requirements of 49 CFR 391.41(b)(3) and do not need an exemption:

Elbi Aguado

Neil R. Boss

Matthew A. Bunce

Harm A. Gibson

Willie Hammond

Tommy M. Harris

Burke J. Minns

Robert R. Roy

The following 39 applicants were not operating CMVs in interstate commerce:

Steven G. Alvarez

Gary L. Atchley

Taja T. Barnett

David E. Benavides

John K. Bottkol

Donald L. Conklin

Timothy P. Conner

Tyrone O. Cooke

Garrett M. Cooper

Roy L. Cox

Isaac K. Danso

Robert C. Davis

Clarence Evans

Carmine Ferraro

Anthony P. Fortuna

Kenneth E. Fralin

Angel Fuentes

Arnulfo Garcia

Nan W. Hendley

Sharon M. Henry

Jesse D. Hensley

Christopher J. Hundt

Richard M. Jackimowicz

Thomas W. Johnson

David E. Kessling

Robert D. Knoblauch

Stephanie I. Leisure

Nelson F. Meythaler

Henry J. Mioduszewski

George K. Namauu

Nicholas Nigro

Terry J. Nihart

Wilfredo Padin

Oquilla Royster

Vincent Shanks

Donna E. Smith

Jeffrey D. Spoden

Michael T. Stremkowski

Alvin G. Welch

The following 2 applicants had renal insufficiency:

Manuel M. Loreto

Olga N. Richards

The following 8 applicants have had more than one hypoglycemic episode requiring hospitalization or the assistance of others, or has had one such episode but has not had one year of stability following the episode:

Gyorgy Kovacs

Allen Lara

John L. Moreno

William T. Phipps, Jr.

Jose L. Ramos

Michael J. Scheresky

Roger M. Smith, Jr.

Michael H. Zimmerman

The following 4 applicants had other medical conditions making the applicant otherwise unqualified under the Federal Motor Carrier Safety Regulations:

Philip M. Burroughs

Conrad V. Gooding

Eugene R. Huelskamp

Santito Zamot, Jr.

The following 2 applicants were unable to have an endocrinologist state the applicant is able to operate a CMV from a diabetes standpoint:

Kenneth B. Golden, Jr.

Michael P. Kruimer

The following applicant, Kenneth M. Zakaib, currently resides in Canada. He is not eligible because the Federal exemption is for drivers operating only in the United States.

The following applicant, Jeffrey W. Sgrignoli, is unable or has not demonstrated willingness to properly monitor and manage his or her diabetes, whether by personal decision or medical inability.

The following applicant, Larry Bush, has peripheral neuropathy or circulatory insufficiency of the extremities likely to interfere with his or her ability to operate a CMV.

The following 2 applicants did not meet the minimum age criteria outlined in 49 CFR 391.41(b)(1) which states that an individual must be at least 21 years old to operate a CMV in interstate commerce:

Ronald D. Kestner

Kyle J. Russell

The following 20 applicants were exempt from the diabetes standard:

Guanny T. Bradley

Scott D. Butler

Bryan R. Clines

Allan J. Clune

Earl L. Combs

David A. Comeau

Robert N. Costa

Frank J. Fregoni

William Garcia

John T. Maher

Bart J. Meyer

William B. Piver

Audrey E. Platt-Carroll

Ronald W. Rein

Calvin J. Rose

Steven A. Traver

Robert C. Tucker

Wesley G. Walton

Caleb K. Whitlock

Anthony L. Wingfield

Issued on: July 27, 2016.
Larry W. Minor,
Associate Administrator for Policy.

[FR Doc. 2016-18498 Filed 8-3-16; 8:45 am]

BILLING CODE 4910-EX-P